DEPARTMENT OF HEALTH AND HUMAN SERVICES

Administration for Community Living

Notice of Federal Review of the Connecticut Office of Protection and Advocacy for Persons With Disabilities

AGENCY: Administration for Community Living, HHS.

ACTION: Notice.

SUMMARY: Representatives of the Administration on Intellectual and Developmental Disabilities (AIDD), Administration for Community Living (ACL), will be conducting a federal review on December 1-4, 2015 of the Connecticut Office of Protection and Advocacy for Persons with Disabilities (OPA).

AIDD is soliciting comments from interested parties on your experiences with the work, program, and strategies employed by OPA in meeting the needs of individuals with developmental disabilities and their families in Connecticut.

You are encouraged to share your experiences by way of any of the following methods:

Email: Clare.Barnett@acl.hhs.gov.

Telephone: 202-357-3426.

Mail Comments To: Clare Barnett, Program Specialist, Administration on Intellectual and Developmental Disabilities, Administration for Community Living, One Massachusetts Avenue NW., Room 4204, Washington, DC 20201.

Comments should be received by December 4, 2015 in order to be included in the final report.

FOR FURTHER INFORMATION CONTACT: Clare Barnett, Administration for Community Living, Administration on Intellectual and Developmental Disabilities, Office of Program Support, One Massachusetts Avenue NW., Room 4204, Washington, DC 20201, 202-357-3426.

Dated: October 29, 2015.
Kathy Greenlee,
Administrator & Assistant Secretary for Aging.

[FR Doc. 2015-28058 Filed 11-3-15; 8:45 am]

BILLING CODE 4154-01-P